DEPARTMENT OF COMMERCE

National Oceanic and Atmospheric Administration

[I.D. 040902E]

Mid-Atlantic Fishery Management Council; Public Meetings

AGENCY: National Marine Fisheries Service (NMFS), National Oceanic and Atmospheric Administration (NOAA), Commerce.

ACTION: Notice of public meeting.

SUMMARY: The Mid-Atlantic Fishery Management Council (Council) and its Monkfish Committee, its Black Sea Bass Industry Advisory Panel, its Demersal Species Committee meeting as a Council Committee of the Whole with the Atlantic States Marine Fisheries Commission’s (ASMFC) Summer Flounder, Scup and Black Sea Bass Board, and its Squid, Mackerel, Butterfish Committee will hold a public meeting.

DATES: The meetings will be held on Monday, April 29, 2002 through Thursday, May 2, 2002. See SUPPLEMENTARY INFORMATION for specific dates and times.

ADDRESSES: The meetings will be held at the Omni Newport News Hotel, 1000 Omni Boulevard, Newport News, VA; telephone: 757-873-6664.

Council address: Mid-Atlantic Fishery Management Council, 300 S. New Street, Dover, DE 19904; telephone: 302-674-2331.

FOR FURTHER INFORMATION CONTACT: Daniel T. Furlong, Executive Director, Mid-Atlantic Fishery Management Council; telephone: 302-674-2331, ext. 19.

SUPPLEMENTARY INFORMATION:

Monday, April 29, 2002

The Joint Monkfish Committee will meet from 10 a.m. until 5 p.m.

Tuesday, April 30, 2002

The Joint Monkfish Committee will meet again from 8 a.m. until noon.

The Black Sea Bass Industry Advisory Panel will meet concurrently from 8 a.m. until noon.

The Squid, Mackerel, Butterfish Committee will meet from 1 p.m. to 4 p.m.

The Council convenes from 4 p.m. to 5:30 p.m., to approve Amendment 13 to the Surfclam and Ocean Quahog Fishery Management Plan (FMP) for public hearing.

Wednesday, May 1, 2002

The Council will meet jointly with the Atlantic States Marine Fisheries Commission’s Summer Flounder, Scup, and Black Sea Bass Board from 8:00 a.m. until noon, and again from 1 p.m. to 3 p.m.

Thursday, May 2, 2002

The Council will meet from 8 a.m. until 4:30 p.m.

Agenda items for the committees and Council meetings are:

The Joint Monkfish Committee will develop recommendations for management alternatives to be analyzed in Amendment 2 Draft Supplemental Environmental Impact Statement to the Monkfish Fishery Management Plan (FMP). The Black Sea Bass Advisory Panel will review public comments on public hearing document for Amendment 13 to the Summer Flounder, Scup, and Black Sea Bass FMP and develop advice and recommendations for: (1) alternative management measure(s) to govern the commercial sector of the black sea bass fishery; (2) permit requirements for fishermen; (3) prohibition of wet storage of black sea bass pots/traps during closures, limitation on number of pots/traps and associated tag program; and, (4) EFH gear impact alternatives for summer flounder, scup, black sea bass FMP to remedy disapproved EFH section in Amendment 12. The Squid, Mackerel, and Butterfish Committee will review the Monitoring Committee’s recommendations for 2003 quotas and management measures for Atlantic mackerel, squid, and butterfish; address possible in-season adjustment for 2002 specifications; and, review Amendment 9 issues (April 2, 2002 letter from the Regional Administrator) including: develop EFH designations for Loligo and Illex eggs, assess gear impacts on EFH, examine bycatch reduction options and measures, consider NAFO transit provisions, and review timeline for amendment completion; consider development of Framework 3 for the sole purpose of extending the Illex moratorium in the event Amendment 9 is not implemented by July 1, 2002; and, in the event that the Final Rule for Framework 2 is not published by July 1, 2002, consider establishment of July 1, 2002 as a control date. The Council will resurrect tabled motions from its prior meeting and approve adoption of public hearing document for Amendment 13 to the Surfclam and Ocean Quahog FMP. Jointly with the ASMFC, the Council will review and discuss public hearing comments for Amendment 13 to the Summer Flounder, Scup, and Black Sea Bass FMP; develop and decide final measures to be included in Amendment 13; and, adopt Amendment 13 for Secretarial submission. The Council will receive and hear a Law Enforcement presentation on Vessel Monitoring System (VMS). The Council will review the Squid, Mackerel, and Butterfish Committee’s recommendations for 2003 quotas and management measures for Atlantic mackerel, squid and butterfish; review recommendation for possible in-season adjustment for 2002 specifications; develop and recommend 2003 squid, mackerel, and butterfish quota specifications and management measures; and, address various options regarding Framework 2, Amendment 9 and Framework 3. Receive and discuss organizational and committee reports including the New England Council's report regarding possible actions on herring, groundfish, monkfish, red crab, scallops, skates, and whiting.

Although non-emergency issues not contained in this agenda may come before the Council and ASMFC for discussion, these issues can not be the subject of formal Council action during this meeting. Council action will be restricted to those issues specifically listed in this notice and any issues arising after publication of this notice that require emergency action under section 305(c) of the Magnuson-Stevens Act, provided the public has been notified of the Council’s intent to take final action to address the emergency.

Special Accommodations

This meeting is physically accessible to people with disabilities. Requests for sign language interpretation or other auxiliary aids should be directed to Joanna Davis at the Council (see ADDRESSES) at least 5 days prior to the meeting date.

Dated: April 9, 2002.
Richard W. Surdi,
Acting Director, Office of Sustainable Fisheries, National Marine Fisheries Service.

[FR Doc. 02-9084 Filed 4-12-02; 8:45 am]

BILLING CODE 3510-22-S